DEPARTMENT OF HEALTH AND HUMAN SERVICES

Centers for Disease Control and Prevention

Decision To Evaluate a Petition To Designate a Class of Employees at General Atomics (Also Known as GA, and/or Division of General Dynamics, and/or John Jay Hopkins Laboratory for Pure and Applied Science), La Jolla, Laboratory for Pure and Applied Science), La Jolla, California, To Be Included in the Special Exposure Cohort

AGENCY: Centers for Disease Control and Prevention (CDC), Department of Health and Human Services (HHS).

ACTION: Notice.

SUMMARY: The Department of Health and Human Services (HHS) gives notice as required by 42 CFR 83.12(e) of a decision to evaluate a petition to designate a class of employees at General Atomics (also known as GA, and/or Division of General Dynamics, and/or John Jay Hopkins Laboratory for Pure and Applied Science), to be included in the Special Exposure Cohort under the Energy Employees Occupational Illness Compensation Program Act of 2000. The initial proposed definition for the class being evaluated, subject to revision as warranted by the evaluation, is as follows:

Facility: General Atomics.

Location: La Jolla, California.

Job Titles and/or Job Duties:

Potentially worked in the locations:

○ Building 2 (Science laboratories A, B, and C).

○ Building 9 (Experimental Building).

○ Building 10 (Maintenance).

○ Building 11 (Service Building).

○ Building 21.

○ Building 22.

○ Building 23 (Hot Cell Facility).

○ Building 25.

○ Building 26.

○ Building 27 (Experimental Area Building #1).

○ Building 27-1 (Experimental Area Building #1).

○ Building 30 (LINAC Complex).

○ Building 31 (HTGR-TCF).

○ Building 33 (Fusion Building).

○ Building 34 (Fusion Doublet III).

○ Building 37 (SV-A).

○ Building 39 (SV-B).

○ SV-D.

Period of Employment: January 1, 1960 through December 31, 1969.

FOR FURTHER INFORMATION CONTACT: Larry Elliott, Director, Office of Compensation Analysis and Support, National Institute for Occupational Safety and Health, 4676 Columbia Parkway, MS C-46, Cincinnati, OH 45226, Telephone 513-533-6800 (this is not a toll-free number). Information requests can also be submitted by e-mail to OCAS@CDC.GOV.

Dated: August 1, 2006.
John Howard,
Director, National Institute for Occupational Safety and Health, Centers for Disease Control and Prevention.

[FR Doc. 06-6682 Filed 8-3-06; 8:45 am]

BILLING CODE 4163-19-M